DEPARTMENT OF EDUCATION

Applications for New Awards—American History and Civics Education—Presidential and Congressional Academies for American History and Civics

AGENCY: Office of Elementary and Secondary Education, Department of Education.

ACTION: Notice.

SUMMARY: The Department of Education (Department) is issuing a notice inviting applications for new awards for fiscal year (FY) 2021 for the Presidential and Congressional Academies for American History and Civics (Academies) Program, Assistance Listing Number 84.422A. This notice relates to the approved information collection under OMB control number 1894-0006.

DATES:

Applications Available: July 19, 2021.

Date of Pre-Application Webinars: The Office of Elementary and Secondary Education intends to post pre-recorded informational webinars designed to provide technical assistance to interested applicants for grants under the Academies Program. These informational webinars will be available to the public on the Academies Program web page within two weeks of the publication of this notice in the Federal Register at https://oese.ed.gov/offices/office-of-discretionary-grants-support-services/effective-educator-development-programs/american-history-and-civics-academies/.

Note: For potential grantees new or unfamiliar with grantmaking at the Department, please consult our funding basics resource at www2.ed.gov/documents/funding-101/funding-101-basics.pdf or a more detailed resource at www2.ed.gov/documents/funding-101/funding-101.pdf.

Deadline for Notice of Intent to Apply: August 18, 2021.

Deadline for Transmittal of Applications: August 18, 2021.

Deadline for Intergovernmental Review: October 4, 2021.

ADDRESSES: For the addresses for obtaining and submitting an application, please refer to our Common Instructions for Applicants to Department of Education Discretionary Grant Programs, published in the Federal Register on February 13, 2019 (84 FR 3768) and available at www.govinfo.gov/content/pkg/FR-2019-02-13/pdf/2019-02206.pdf.

FOR FURTHER INFORMATION CONTACT: Diana Schneider, U.S. Department of Education, 400 Maryland Avenue SW, Room 3C152, Washington, DC 20202-5960. Telephone: (202) 401-1456. Email: Diana.Schneider@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The Academies Program supports the establishment of: (1) Presidential Academies for the Teaching of American History and Civics that offer workshops for both veteran and new teachers to strengthen their knowledge of American history, civics, and government education (Presidential Academies); and (2) Congressional Academies for Students of American History and Civics that provide high school students opportunities to enrich their understanding of these subjects (Congressional Academies).

Background: The Academies Program supports projects to raise student achievement in American history and civics by improving teachers' and students' knowledge, understanding, and engagement with these subjects through intensive workshops with scholars, master teachers, and curriculum experts. Project activities should reflect the best available research and practice in teaching and learning. This program is authorized under section 2232 of the Elementary and Secondary Act of 1965, as amended (ESEA).

This competition includes two absolute priorities, one competitive preference priority, and two invitational priorities. Consistent with section 2232 of the ESEA, the absolute priorities address professional development and instruction in American history and civics for teachers and students. The competitive preference priority, from section 2232(e)(4) of the ESEA, encourages applicants to develop programs using the resources from the National Park Service. This competitive preference priority is available only to applicants that address Absolute Priority 1.

The Department continues to process, review, and fully respond to the significant number of public comments received in response to the notice of proposed priorities published in the Federal Register on April 19, 2021 (86 FR 20348) (NPP). As a result, it is not possible to issue a notice of final priorities in time to use the priorities included in that NPP as competitive preference priorities for this FY 2021 competition. Because the Department has not yet issued final priorities, we are using these proposed priorities as invitational priorities. Consistent with the use of invitational priorities across grant competitions, applicants are not required to respond to the invitational priorities, and applications that meet invitational priorities do not receive a preference or competitive advantage over other applications.

The Department believes that teaching and learning practices that reflect the diversity, identities, histories, contributions, and experiences of all students promote academic and social-emotional development for all groups of students. To that end, Invitational Priority 1 reinforces that American history and civics education programs can play an important role in supporting teaching and learning that reflects the depth and breadth of our Nation's diverse history and the vital role of diversity in our Nation's democracy. This can be accomplished, in part, through teaching and learning environments that provide students with a full and accurate understanding of our Nation's history, expose students to a range of important civics topics and equip them with the skills needed to fully participate in civic life, enable students to see themselves and their histories in the learning experience, and empower students by developing their problem-solving and critical thinking skills.

Accordingly, Invitational Priority 1 encourages applicants to incorporate practices that reflect the diversity, identities, histories, contributions, and experiences of all students into teaching and learning and create inclusive, supportive, and identity-safe learning environments.

Invitational Priority 2 encourages applicants to foster information literacy skills, including critical thinking, and promote student engagement in civics education through professional development opportunities for teachers.

The Department fully recognizes and respects that curriculum decisions are made at the State and local levels, not by the Federal Government, and does not mandate, direct, or control curricula through this competition. Rather, the Department, through this competition, seeks to encourage efforts to implement more effective, student-centered teaching practices and professional development activities while promoting learning practices that reflect the diversity, identities, histories, contributions, and experiences of all students to support enriched educational opportunity, equity, and success for all students.

Priorities: This notice contains two absolute priorities, one competitive preference priority, and two invitational priorities. In accordance with 34 CFR 75.105(b)(2)(iv), the absolute priorities are from section 2232(e)(1) and (f)(1) of the ESEA, 20 U.S.C. 6662. The competitive preference priority is from section 2232(e)(4) of the ESEA.

Absolute Priorities: For FY 2021 and any subsequent year in which we make awards from the list of unfunded applications from this competition, these priorities are absolute priorities. Under 34 CFR 75.105(c)(3), we consider only applications that meet both of these priorities.

These priorities are:

Absolute Priority 1—Presidential Academies for the Teaching of American History and Civics.

Under this priority, an applicant must propose to establish a Presidential Academy that offers a seminar or institute for teachers of American history and civics, which—

(a) Provides intensive professional development opportunities for teachers of American history and civics to strengthen such teachers' knowledge of the subjects of American history and civics;

(b) Is led by a team of primary scholars and core teachers who are accomplished in the field of American history and civics;

(c) Is conducted during the summer or other appropriate time; and

(d) Is of not less than two weeks and not more than six weeks in duration.

Absolute Priority 2—Congressional Academies for Students of American History and Civics.

Under this priority, an applicant must propose to establish a seminar or institute for outstanding students of American history and civics, which—

(a) Broadens and deepens such students' understanding of American history and civics;

(b) Is led by a team of primary scholars and core teachers who are accomplished in the field of American history and civics;

(c) Is conducted during the summer or other appropriate time; and

(d) Is of not less than two weeks and not more than six weeks in duration.

Competitive Preference Priority: For applications addressing Absolute Priority 1, we give competitive preference to applications that address the following priority. For FY 2021 and any subsequent year in which we make awards from the list of unfunded applications from this competition, this priority is a competitive preference priority. Under 34 CFR 75.105(c)(2)(i) we award up to an additional three points to an application, depending on how well the application meets this priority.

This priority is:

Using the Resources of the National Parks. (up to 3 points)

Applicants that propose to develop innovative and comprehensive programs using the resources of the National Parks, including, to the extent practicable, through coordination or alignment of activities with the National Park Service National Centennial Parks initiative.

Note: The Department recognizes that the National Park Service Centennial occurred in 2016, and that consequently it may not be feasible to coordinate activities with this initiative. However, applicants can address this priority by proposing to develop innovative and comprehensive programs using other resources of the National Parks.

Invitational Priorities: For FY 2021 and any subsequent year in which we make awards from the list of unfunded applications from this competition, these priorities are invitational priorities. Under 34 CFR 75.105(c)(1) we do not give an application that meets these invitational priorities a competitive or absolute preference over other applications.

These priorities are:

Invitational Priority 1—Projects That Incorporate Racially, Ethnically, Culturally, and Linguistically Diverse Perspectives into Teaching and Learning.

Projects that incorporate teaching and learning practices that reflect the diversity, identities, histories, contributions, and experiences of all students and create inclusive, supportive, and identity-safe learning environments that—

(a) Take into account systemic marginalization, biases, inequities, and discriminatory policy and practice in American history;

(b) Incorporate racially, ethnically, culturally, and linguistically diverse perspectives and perspectives on the experience of individuals with disabilities;

(c) Encourage students to critically analyze the diverse perspectives of historical and contemporary media and its impacts;

(d) Support the creation of learning environments that validate and reflect the diversity, identities, and experiences of all students; and

(e) Contribute to inclusive, supportive, and identity-safe learning environments.

Invitational Priority 2—Promoting Information Literacy Skills.

Projects that describe how they will foster critical thinking and promote student engagement in civics education through professional development or other activities designed to support students in—

(a) Evaluating sources and evidence using standards of proof;

(b) Understanding their own biases when reviewing information, as well as uncovering and recognizing bias in primary and secondary sources;

(c) Synthesizing information into cogent communications; and

(d) Understanding how inaccurate information may be used to influence individuals, and developing strategies to recognize accurate and inaccurate information.

Definitions: The following definitions are from 34 CFR 77.1.

Demonstrates a rationale means a key project component included in the project's logic model is informed by research or evaluation findings that suggest the project component is likely to improve relevant outcomes.

Logic model (also referred to as a theory of action) means a framework that identifies key project components of the proposed project (i.e., the active “ingredients” that are hypothesized to be critical to achieving the relevant outcomes) and describes the theoretical and operational relationships among the key project components and relevant outcomes.

Project component means an activity, strategy, intervention, process, product, practice, or policy included in a project. Evidence may pertain to an individual project component or to a combination of project components (e.g., training teachers on instructional practices for English learners and follow-on coaching for these teachers).

Relevant outcome means the student outcome(s) or other outcome(s) the key project component is designed to improve, consistent with the specific goals of the program.

Application Requirements: The following requirements are from section 2232(e)(2), (e)(3), (f)(2), and (f)(3) of the ESEA. Applicants submitting applications under Absolute Priority 1 of this competition must meet requirements (a) and (b) listed in this section. Applicants submitting applications under Absolute Priority 2 must meet requirements (c), (d), and (e) listed in this section. Applicants submitting applications under both Absolute Priority 1 and Absolute Priority 2 must meet requirements (a), (b), (c), (d), and (e) listed in this section.

(a) Selection of teachers. Each year, each Presidential Academy shall select between 50 and 300 teachers of American history and civics from public or private elementary schools and secondary schools to attend the seminar or institute.

(b) Teacher stipends. Each teacher selected to participate in a seminar or institute under this competition shall be awarded a fixed stipend based on the length of the seminar or institute to ensure that such teacher does not incur personal costs associated with the teacher's participation in the seminar or institute.

(c) Selection of students. Each year, each Congressional Academy shall select between 100 and 300 eligible students to attend the seminar or institute under this competition.

(d) Eligible students. A student shall be eligible to attend a seminar or institute offered by a Congressional Academy under this competition if the student—

(i) Is recommended by the student's secondary school principal or other school leader to attend the seminar or institute; and

(ii) Will be a secondary school junior or senior in the academic year following attendance at the seminar or institute.

(e) Student stipends. Each student selected to participate in a seminar or institute under this competition shall be awarded a fixed stipend based on the length of the seminar or institute to ensure that such student does not incur personal costs associated with the student's participation in the seminar or institute.

Program Authority: Section 2232 of the ESEA.

Note: Projects will be awarded and must be operated in a manner consistent with the nondiscrimination requirements contained in the Federal civil rights laws.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 86 apply to institutions of higher education only.

II. Award Information

Type of Award: Discretionary grants.

Estimated Available Funds: $1,700,000.

Contingent upon the availability of funds and the quality of applications, we may make additional awards in subsequent years from the list of unfunded applications from this competition.

Estimated Range of Awards: $300,000-$500,000 per year.

Estimated Average Size of Awards: $400,000 per year.

Estimated Number of Awards: 1.

Maximum Award: We will not make an award exceeding $500,000 to any applicant per 12-month budget period. The Department plans to fully fund awards made under this notice with FY 2021 funds.

Note: The Department is not bound by any estimates in this notice.

Project Period: Up to 60 months.

III. Eligibility Information

1. Eligible Applicants: An institution of higher education, or nonprofit educational organization, museum, library, or research center with demonstrated expertise in historical methodology or the teaching of American history and civics; or a consortium of these entities.

In its application, an applicant must submit documentation of its organization's demonstrated expertise in historical methodology or the teaching of American history or civics.

Note: Consortium applicants must follow the procedures for group applications described in 34 CFR 75.127 through 34 CFR 75.129.

Note: If you are a nonprofit organization, under 34 CFR 75.51, you may demonstrate your nonprofit status by providing: (1) Proof that the Internal Revenue Service currently recognizes the applicant as an organization to which contributions are tax deductible under section 501(c)(3) of the Internal Revenue Code; (2) a statement from a State taxing body or the State attorney general certifying that the organization is a nonprofit organization operating within the State and that no part of its net earnings may lawfully benefit any private shareholder or individual; (3) a certified copy of the applicant's certificate of incorporation or similar document if it clearly establishes the nonprofit status of the applicant; or (4) any item described above if that item applies to a State or national parent organization, together with a statement by the State or parent organization that the applicant is a local nonprofit affiliate.

2.a. Cost Sharing or Matching: Under section 2232(g)(1) of the ESEA, each grant recipient must provide, from non-Federal sources, an amount equal to 100 percent of the amount of the grant, which may be provided in cash or in-kind contributions, to carry out the activities supported by the grant. To meet this requirement, grantees must provide matching contributions on an annual basis relative to the amount of Academies Program funds received for a fiscal year.

Under section 2232(g)(2) of the ESEA, the Secretary may waive the matching requirement for any fiscal year for a grantee if the Secretary determines that applying the matching requirement would result in serious hardship or an inability to carry out project activities. Applicants that wish to apply for a waiver for one or more fiscal years may include a request in their application that describes how the 100 percent matching requirement would cause serious hardship or an inability to carry out project activities.

b. Supplement-Not-Supplant: This program involves supplement-not-supplant funding requirements. In accordance with section 2301 of the ESEA, funds made available under this program must be used to supplement, and not supplant, other non-Federal funds that would otherwise be expended to carry out activities under this program.

c. Indirect Cost Rate Information: This program uses a training indirect cost rate. This limits indirect cost reimbursement to an entity's actual indirect costs, as determined in its negotiated indirect cost rate agreement, or eight percent of a modified total direct cost base, whichever amount is less. For more information regarding training indirect cost rates, see 34 CFR 75.562. For more information regarding indirect costs, or to obtain a negotiated indirect cost rate, please see https://www2.ed.gov/about/offices/list/ocfo/intro.html.

d. Administrative Cost Limitation: This program does not include any program-specific limitation on administrative expenses. All administrative expenses must be reasonable and necessary and conform to Cost Principles described in 2 CFR part 200 subpart E of the Uniform Guidance.

3. Subgrantees: A grantee under this competition may not award subgrants to entities to directly carry out project activities described in its application.

IV. Application and Submission Information

1. Application Submission Instructions: Applicants are required to follow the Common Instructions for Applicants to Department of Education Discretionary Grant Programs, published in the Federal Register on February 13, 2019 (84 FR 3768) and available at www.govinfo.gov/content/pkg/FR-2019-02-13/pdf/2019-02206.pdf, which contain requirements and information on how to submit an application.

2. Submission of Proprietary Information: Given the types of projects that may be proposed in applications for the Academies competition, your application may include business information that you consider proprietary. In 34 CFR 5.11 we define “business information” and describe the process we use in determining whether any of that information is proprietary and, thus, protected from disclosure under Exemption 4 of the Freedom of Information Act (5 U.S.C. 552, as amended).

Because, consistent with the process followed in the FY 2017 Academies competition, we plan to post on our website the application narrative sections of all Academies grants, you may wish to request confidentiality of business information.

Consistent with Executive Order 12600, please designate in your application any information that you believe is exempt from disclosure under Exemption 4. In the appropriate Appendix section of your application, under “Other Attachments Form,” please list the page number or numbers on which we can find this information.

3. Intergovernmental Review: This program is subject to Executive Order 12372 and the regulations in 34 CFR part 79. Information about Intergovernmental Review of Federal Programs under Executive Order 12372 is in the application package for this competition. Please note that, under 34 CFR 79.8(a), we have shortened the standard 60-day intergovernmental review period in order to make awards by the end of FY 2021.

4. Funding Restrictions: We specify unallowable costs in 2 CFR 200, subpart E. We reference additional regulations outlining funding restrictions in the Applicable Regulations section of this notice.

5. Recommended Page Limit: The application narrative is where you, the applicant, address the selection criteria that reviewers use to evaluate your application. We recommend that you (1) limit the application narrative to no more than 50 pages and (2) use the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to the cover sheet; the budget section, including the narrative budget justification; the assurances and certifications; or the one-page abstract, the resumes, the bibliography, or the letters of support. However, the recommended page limit does apply to all of the application narrative.

6. Notice of Intent to Apply: The Department will be able to review grant applications more efficiently if we know the approximate number of applicants that intend to apply. Therefore, we strongly encourage each potential applicant to notify us of their intent to submit an application. To do so, please email the program contact person listed under FOR FURTHER INFORMATION CONTACT with the subject line “Intent to Apply,” and include the applicant's name and a contact person's name and email address. Applicants that do not submit a notice of intent to apply may still apply for funding; applicants that do submit a notice of intent to apply are not bound to apply or bound by the information provided.

V. Application Review Information

1. Selection Criteria: The selection criteria for this program are from 34 CFR 75.210. An applicant may earn up to a total of 100 points based on the selection criteria. The maximum score for addressing each criterion is indicated in parentheses.

(a) Quality of the project design. (35 points)

(1) The Secretary considers the quality of the design of the proposed project.

(2) In determining the quality of the design of the proposed project, the Secretary considers the following factors:

(i) The extent to which the proposed project demonstrates a rationale. (20 points)

(ii) The extent to which the proposed project represents an exceptional approach to the priority or priorities established for the competition. (15 points)

(b) Need for project. (25 points)

(1) The Secretary considers the need for the proposed project.

(2) In determining the need for the proposed project, the Secretary considers the following factors:

(i) The magnitude or severity of the problem to be addressed by the proposed project. (8 points)

(ii) The extent to which specific gaps or weaknesses in services, infrastructure, or opportunities have been identified and will be addressed by the proposed project, including the nature and magnitude of those gaps or weaknesses. (10 points)

(iii) The extent to which the services to be provided by the proposed project are focused on those with greatest needs. (7 points)

(c) Quality of the management plan. (20 points)

(1) The Secretary considers the quality of the management plan for the proposed project.

(2) In determining the quality of the management plan for the proposed project, the Secretary considers the following factors:

(i) The adequacy of the management plan to achieve the objectives of the proposed project on time and within budget, including clearly defined responsibilities, timelines, and milestones for accomplishing project tasks.

(ii) The adequacy of procedures for ensuring feedback and continuous improvement in the operation of the proposed project.

(d) Quality of the project evaluation. (20 points)

(1) The Secretary considers the quality of the evaluation to be conducted of the proposed project.

(2) In determining the quality of the evaluation, the Secretary considers the following factors:

(i) The extent to which the methods of evaluation include the use of objective performance measures that are clearly related to the intended outcomes of the project and will produce quantitative and qualitative data to the extent possible.

(ii) The extent to which the methods of evaluation will provide performance feedback and permit periodic assessment of progress toward achieving intended outcomes.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.206, before awarding grants under this competition the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with OMB's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: The Department has established the following Government Performance and Results Act of 1993 (GPRA) performance objective for the Academies Program:

Participants will demonstrate through pre- and post-assessments an increased understanding of American history and civics that can be linked to their participation in the Presidential or Congressional Academy.

For purposes of GPRA and Department reporting under 34 CFR 75.110, we will track performance on this objective through the following measures:

Presidential Academies: The average percentage gain on an assessment after participation in the Presidential Academy.

Congressional Academies: The average percentage gain on an assessment after participation in the Congressional Academy.

We advise applicants for grants under this program to give careful consideration to these measures in conceptualizing the approach and evaluation of a proposed project. Each grantee will be required to provide, in its annual and final performance reports, data about its performance with respect to these measures.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Ian Rosenblum,
Deputy Assistant Secretary for Policy and Programs delegated the authority to perform the functions and duties of the Assistant Secretary, Office of Elementary and Secondary Education.

[FR Doc. 2021-15364 Filed 7-16-21; 8:45 am]

BILLING CODE 4000-01-P